DEPARTMENT OF ENERGY

Proposed Agency Information Collection: Supplemental Labor Management Office (SLMO) Driver Attestation

AGENCY: U.S. Department of Energy.

ACTION: Notice of request for comments.

SUMMARY: The Department of Energy (DOE) invites public comment on a proposed collection of information that DOE is developing for submission to the Office of Management and Budget (OMB) pursuant to the Paperwork Reduction Act of 1995. The information collection requests a three-year approval of its collection, titled BPA Supplemental Labor Management Office (SLMO) Driver Authorization, OMB Control Number 1910-NEW. The proposed collection will ask contract personnel to certify they have completed the requirements to drive a government vehicle on behalf of BPA and presented credentials to their contract company that they are licensed for the type of license their role requires.

DATES: Comments regarding this collection must be received on or before December 27, 2024. If you anticipate that you will be submitting comments but find it difficult to do so within the period allowed by this notice, please advise the OMB Desk Officer of your intention to make a submission as soon as possible. The Desk Officer may be telephoned at 202-881-8585.

ADDRESSES: Written comments and recommendations for the proposed information collection should be sent within 30 days of publication of this notice to www.reginfo.gov/public/do/PRAMain. Find this particular information collection by selecting “Currently under 30-day Review—Open for Public Comments” or by using the search function. Written comments may be sent to Bonneville Power Administration, Attn: Stephanie Noell, Privacy Program, CGI-7, PO Box 3621, Portland, OR 97208-3621, or by email at privacy@bpa.gov.

FOR FURTHER INFORMATION CONTACT: Requests for additional information or copies of the information collection instrument and instructions should be directed to Attn: Stephanie Noell, Privacy Program, by email at privacy@bpa.gov, or by phone at (503) 230-3881.

SUPPLEMENTARY INFORMATION: This information collection request contains:

(1) OMB No.: 1910-NEW;

(2) Information Collection Request Title: BPA Supplemental Labor Management Office (SLMO) Driver Authorization;

(3) Type of Request: New;

(4) Purpose: The purpose of the Information Collection Request is to collect information from BPA contractors at Bonneville Power Administration (BPA) sites pertaining to authorization to operate BPA owned/leased/provided motor vehicles by contracted labor personnel;

(5) Annual Estimated Number of Respondents: 250;

(6) Annual Estimated Number of Total Responses: 250;

(7) Annual Estimated Number of Burden Hours: 250;

(8) Annual Estimated Reporting and Recordkeeping Cost Burden: $17,150.

Statutory Authority: The Bonneville Project Act codified in 16 U.S.C. 832a, the Federal Columbia River Transmission System Act of 1974 codified in 16 U.S.C. 838 et seq., the Pacific Northwest Electric Power Planning and Conservation Act in 16 U.S.C. 839 et seq., Department of Energy Establishment Act 42 U.S.C. 7101 et seq., and 41 CFR 101-39.300 General Services Administration (GSA) Interagency Fleet Management System (IFMS).

Signing Authority: This document of the Department of Energy was signed on November 12, 2024, by Candice D. Palen, Information Collection Clearance Manager, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC on November 22, 2024.
Treena V. Garrett,
Federal Register Liaison Officer, U.S. Department of Energy.

[FR Doc. 2024-27835 Filed 11-26-24; 8:45 am]

BILLING CODE 6450-01-P